DEPARTMENT OF TRANSPORTATION

Federal Aviation Administration

14 CFR Part 39

[Docket No. FAA-2013-0195; Directorate Identifier 2013-NE-08-AD; Amendment 39-17553; AD 2013-16-15]

RIN 2120-AA64

Airworthiness Directives; General Electric Company Turbofan Engines

AGENCY: Federal Aviation Administration (FAA), DOT.

ACTION: Final rule.

SUMMARY: We are adopting a new airworthiness directive (AD) for all General Electric Company (GE) model GEnx-2B67B turbofan engines with booster anti-ice (BAI) air duct, part number (P/N) 2469M32G01, and support bracket, P/N 2469M46G01, installed. This AD was prompted by reports of cracks in the BAI air duct. This AD requires initial and repetitive visual inspections of the BAI air duct, removal from service of the BAI air duct if it fails inspection and, as a mandatory terminating action, the installation of new BAI air duct support brackets. We are issuing this AD to prevent failure of the BAI air duct, resulting in an in-flight shutdown of one or more engines, loss of thrust control, and damage to the airplane.

DATES: This AD is effective September 23, 2013.

ADDRESSES: For service information identified in this AD, contact General Electric Company, GE Aviation, Room 285, One Neumann Way, Cincinnati, OH; phone: 513-552-3272; email: geae.aoc@ge.com. You may view this service information at the FAA, Engine & Propeller Directorate, 12 New England Executive Park, Burlington, MA. For information on the availability of this material at the FAA, call 781-238-7125.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Jason Yang, Aerospace Engineer, Engine Certification Office, FAA, Engine & Propeller Directorate, 12 New England Executive Park, Burlington, MA 01803; phone: 781-238-7747; fax: 781-238-7199; email: jason.yang@faa.gov.

SUPPLEMENTARY INFORMATION:

Discussion

We issued a notice of proposed rulemaking (NPRM) to amend 14 CFR part 39 to include an AD that would apply to the specified products. The NPRM published in the Federal Register on April 11, 2013 (78 FR 21578). The NPRM proposed to require initial and repetitive visual inspections of the BAI air duct, removal from service of the BAI air duct if it fails inspection and, as a mandatory terminating action, the installation of new BAI air duct support brackets.

Comments

We gave the public the opportunity to participate in developing this AD. The following presents the comments received on the proposal and the FAA's response to each comment.

Request To Revise Applicability

The Boeing Company and GE asked that the GEnx-2B67 turbofan engine be removed from the Applicability section of this AD. The commenters noted that this engine does not have BAI hardware, therefore, inspection and modification of the BAI does not apply.

We agree. We revised this AD by removing the GEnx-2B67 engine from the Applicability section.

Request To Update Service Information

GE requested that we include a reference in the AD to GE Service Bulletin (SB) GEnx-2B S/B 75-0008, Revision 2, dated May 30, 2013. This SB was published after the NPRM (78 FR 21578, April 11, 2013) was issued.

We agree. We revised this AD by adding a reference to GE SB GEnx-2B S/B 75-0008, Revision 2, dated May 30, 2013, in the Related Information section.

Request To Allow Repetitive Replacement of BAI Air Duct

Cathay Pacific Airways requested that we allow removal of the affected BAI air duct every 400 engine flight cycles and its replacement with a new spare duct as an alternative method of compliance to the AD.

We disagree. Replacement of the affected BAI air duct is not sufficient to meet the requirements of this AD. Per the Mandatory Terminating Action section of this AD, operators must install new BAI air duct support brackets and replace the BAI air duct with a part that is eligible for installation. We did not change the AD.

Conclusion

We reviewed the relevant data, considered the comments received, and determined that air safety and the public interest require adopting this AD with the changes described previously. We have determined that these minor changes:

• Are consistent with the intent that was proposed in the NPRM (78 FR 21578, April 11, 2013) for correcting the unsafe condition; and

• Do not add any additional burden upon the public than was already proposed in the NPRM (78 FR 21578, April 11, 2013).

We also determined that these changes will not increase the economic burden on any operator or increase the scope of this AD.

Costs of Compliance

We estimate that this AD affects 16 engines installed on airplanes of U.S. registry. We also estimate that it will take about 4 hours per engine to comply with this AD. The average labor rate is $85 per hour. Required parts cost about $11,000 per engine. Based on these figures, we estimate the cost of this AD to U.S. operators to be $181,440.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska to the extent that it justifies making a regulatory distinction, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-16-15 General Electric Company: Amendment 39-17553; Docket No. FAA-2013-0195; Directorate Identifier 2013-NE-08-AD.

(a) Effective Date

This AD is effective September 23, 2013.

(b) Affected ADs

None.

(c) Applicability

This AD applies to all General Electric Company (GE) model GEnx-2B67B turbofan engines with booster anti-ice (BAI) air duct, part number (P/N) 2469M32G01, and support bracket, P/N 2469M46G01, installed.

(d) Unsafe Condition

This AD was prompted by reports of cracks in the BAI air duct, P/N 2469M32G01. We are issuing this AD to prevent failure of the BAI air duct, resulting in an in-flight shutdown of one or more engines, loss of thrust control, and damage to the airplane.

(e) Compliance

Comply with this AD within the compliance times specified, unless already done.

(f) Inspection of BAI Air Duct

(1) Perform an initial visual inspection of the BAI air duct, P/N 2469M32G01, for cracks prior to accumulating 400 cycles since new (CSN).

(2) Thereafter, repeat the visual inspection within every 100 cycles since last inspection.

(3) If cracks in the BAI air duct are found during any inspection required by this AD, remove the BAI air duct from service.

(g) Mandatory Terminating Action

As mandatory terminating action to the repetitive inspection requirement of this AD, at the next removal of BAI air duct, P/N 2469M32G01, or if the BAI air duct is found cracked, after the effective date of this AD, do the following:

(1) Install new BAI air duct support brackets, P/Ns 2550M03G01, 2548M66G01, 2548M67P01, 2550M18G01, and 2550M17P01.

(2) Replace the BAI air duct with one that is eligible for installation.

(h) Definition

For the purpose of this AD, a BAI air duct that is eligible for installation is one that has accumulated 25 CSN or fewer.

(i) Alternative Methods of Compliance (AMOCs)

The Manager, Engine Certification Office, FAA, may approve AMOCs for this AD. Use the procedures found in 14 CFR 39.19 to make your request.

(j) Related Information

(1) For more information about this AD, contact Jason Yang, Aerospace Engineer, Engine Certification Office, FAA, Engine & Propeller Directorate, 12 New England Executive Park, Burlington, MA 01803; phone: 781-238-7747; fax: 781-238-7199; email: Jason.Yang@faa.gov.

(2) Refer to GE Service Bulletin (SB) No. GEnx-2B S/B 75-0006, dated July 23, 2012; and GE SB No. GEnx-2B S/B 75-0008, Revision 1, dated February 4, 2013, or Revision 2, dated May 30, 2013; for guidance on inspecting and, if necessary, removing and replacing the BAI air duct, as well as procedures for installation of new BAI air duct support brackets.

(3) For service information identified in this AD, contact General Electric, One Neumann Way, Room 285, Cincinnati, OH; phone: 513-552-3272; email: geae.aoc@ge.com.

(4) You may view this service information at the FAA, Engine & Propeller Directorate, 12 New England Executive Park, Burlington, MA. For information on the availability of this material at the FAA, call 781-238-7125.

(k) Material Incorporated by Reference

None.

Issued in Burlington, Massachusetts, on August 7, 2013.
Frank P. Paskiewicz,
Acting Director, Aircraft Certification Service.

[FR Doc. 2013-20097 Filed 8-16-13; 8:45 am]

BILLING CODE 4910-13-P